DEPARTMENT OF TRANSPORTATION

Federal Aviation Administration

14 CFR Part 39

[Docket No. FAA-2026-0025; Project Identifier MCAI-2025-01294-R]

RIN 2120-AA64

Airworthiness Directives; Leonardo S.p.a. Helicopters

AGENCY: Federal Aviation Administration (FAA), DOT.

ACTION: Notice of proposed rulemaking (NPRM).

SUMMARY: The FAA proposes to adopt a new airworthiness directive (AD) for all Leonardo S.p.a. Model AB139, AW139, and AW189 helicopters. This proposed AD was prompted by a report of cracks on the left-hand (LH) and right-hand (RH) tube assemblies installed on the brake pedal assemblies. This proposed AD would require repetitively inspecting the LH and RH tube assemblies for Model AB139 and AW139 helicopters, and the LH and RH pedal shaft assemblies for Model AW189 helicopters, and depending on the results of the inspection, corrective actions. This proposed AD would also prohibit installing certain parts unless certain requirements are met. The FAA is proposing this AD to address the unsafe condition on these products.

DATES: The FAA must receive comments on this NPRM by March 12, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-0025; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110.

FOR FURTHER INFORMATION CONTACT: Steven Warwick, Aviation Safety Engineer, FAA, 1600 Stewart Avenue, Suite 410, Westbury, NY 11590; phone: (817) 222-5225; email: steven.r.warwick@faa.gov.

SUPPLEMENTARY INFORMATION:

Comments Invited

The FAA invites you to send any written relevant data, views, or arguments about this proposal. Send your comments using a method listed under ADDRESSES. Include “Docket No. FAA-2026-0025; Project Identifier MCAI-2025-01294-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Warwick, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2025-0163, dated July 30, 2025 (EASA AD 2025-0163) (also referred to as the MCAI), to correct an unsafe condition on Leonardo S.p.A. Model AB139, AW139, and AW189 helicopters. The MCAI states that occurrences of cracking on the LH and RH pilot pedal tubes were reported on a Model AW139 helicopter. The MCAI further states subsequent investigation revealed that the cracks originated from the locking slot where the upper clamping bolt engages with the tube; however, the root cause of the tube cracking is still under investigation. Additionally, the MCAI states that due to design similarity of the braking pedal assembly architecture, Model AB139 and AW189 helicopters could be also affected by the same structural damage.

The FAA is issuing this AD to detect and address cracks on the LH and RH tube assemblies installed on the brake pedal assemblies. This unsafe condition, if not addressed, could lead to structural failure of the brake pedal assembly and result in reduced control of the helicopter around the yaw axis.

You may examine the MCAI in the AD docket at regulations.gov under Docket No. FAA-2026-0025.

Material Incorporated by Reference Under 1 CFR Part 51

The FAA reviewed EASA AD 2025-0163, which specifies procedures for repetitive inspections of certain part-numbered LH and RH tube assemblies (for Models AB139 and AW139) and certain part-numbered LH and RH pedal shaft assemblies (for Model AW189) installed on the brake pedal assemblies. Depending on the inspection results, EASA AD specifies procedures for replacing an affected part with a serviceable part or, for the copilot side only, as an alternative to replacing an affected part, installing a temporary serviceable part for the copilot pedal assembly set, performing repetitive inspections, manufacturing and installing a placard, and revising the limitations section of the rotorcraft flight manual (RFM) for the helicopter. EASA AD 2025-0163 also prohibits installing an affected part on any helicopter unless certain requirements are met.

This material is reasonably available because the interested parties have access to it through their normal course of business or by the means identified in the ADDRESSES section.

FAA's Determination

These products have been approved by the civil aviation authority (CAA) of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Proposed AD Requirements in This NPRM

This proposed AD would require the actions specified in EASA AD 2025-0163, described previously, as incorporated by reference, except for any differences identified as exceptions in the regulatory text of this proposed AD. The owner/operator (pilot) holding at least a private pilot certificate may revise the existing RFM and must enter compliance with the applicable paragraph(s) of the AD into the helicopter maintenance records in accordance with 14 CFR 43.9(a) and 91.417(a)(2)(v). The pilot may perform these actions because they only involve revising the existing RFM for the helicopter. This action could be performed equally well by a pilot or mechanic. This is an exception to the FAA's standard maintenance regulations.

Explanation of Required Compliance Information

In the FAA's ongoing efforts to improve the efficiency of the AD process, the FAA developed a process to use some civil CAA ADs as the primary source of information for compliance with requirements for corresponding FAA ADs. The FAA has been coordinating this process with manufacturers and CAAs. As a result, the FAA proposes to incorporate EASA AD 2025-0163 by reference in the FAA final rule. This proposed AD would, therefore, require compliance with EASA AD 2025-0163 in its entirety through that incorporation, except for any differences identified as exceptions in the regulatory text of this proposed AD. Using common terms that are the same as the heading of a particular section in EASA AD 2025-0163 does not mean that operators need comply only with that section. For example, where the AD requirement refers to “all required actions and compliance times,” compliance with this AD requirement is not limited to the section titled “Required Action(s) and Compliance Time(s)” in EASA AD 2025-0163. Material required in EASA AD 2025-0163 for compliance will be available at regulations.gov under Docket No. FAA-2026-0025 after the FAA final rule is published.

Costs of Compliance

The FAA estimates that this AD, if adopted as proposed, would affect 153 helicopters of U.S. registry.

The FAA estimates the following costs to comply with this proposed AD.

Estimated Costs
Action | Labor cost | Parts cost | Cost per product | Cost on U.S. operators
Inspect LH and RH tube assembly or shaft assembly | 2 work-hours × $85 per hour = $170 | $0 | $170 | $26,010

The FAA estimates the following costs to do any replacements that would be required based on the results of the proposed inspection. The agency has no way of determining the number of helicopters that might need these replacements.

On-Condition Costs
Action | Labor cost | Parts cost | Cost per product
Replace tube assembly or shaft assembly (1 assembly) | 1 work-hour × $85 per hour = $85 | $3,381 | $3,466.
Manufacture and install placard | 1 work-hour × $85 per hour = $85 | 0 | $85.
Revise the RFM | 1 work-hour × $85 per hour = $85 | 0 | $85 per RFM revision.
Inspect LH and RH tube assembly or shaft assembly | 2 work-hours × $85 per hour = $170 | 0 | $170.

The FAA has included all known costs in its cost estimate. According to the manufacturer, however, some of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Leonardo S.p.a.: Docket No. FAA-2026-0025; Project Identifier MCAI-2025-01294-R.

(a) Comments Due Date

The FAA must receive comments on this airworthiness directive (AD) by March 12, 2026.

(b) Affected ADs

None.

(c) Applicability

This AD applies to Leonardo S.p.a. Model AB139, AW139, and AW189 helicopters, certificated in any category.

(d) Subject

Joint Aircraft System Component (JASC) Code 6720, Tail Rotor Control System.

(e) Unsafe Condition

This AD was prompted by a report of cracks on the left-hand (LH) and right-hand (RH) tube assemblies installed on the brake pedal assemblies. The FAA is issuing this AD to detect and address cracks on the LH and RH tube assemblies. The unsafe condition, if not addressed, could lead to structural failure of the pedal assembly and result in reduced control of the helicopter around the yaw axis.

(f) Compliance

Comply with this AD within the compliance times specified, unless already done.

(g) Required Actions

(1) Except as specified in paragraphs (h) and (i) of this AD: Comply with all required actions and compliance times specified in, and in accordance with, European Union Aviation Safety Agency AD 2025-0163, dated July 30, 2025 (EASA AD 2025-0163).

(2) For this AD, the owner/operator (pilot) holding at least a private pilot certificate may revise the existing RFM for the helicopter by inserting Appendix 1 of EASA AD 2025-0163 and must enter compliance into the helicopter maintenance records in accordance with 14 CFR 43.9(a) and 91.417(a)(2)(v). The record must be maintained as required by 14 CFR 91.417, 121.380, or 135.439.

(h) Exceptions to EASA AD 2025-0163

(1) Where EASA AD 2024-0228 refers to its effective date, this AD requires using the effective date of this AD.

(2) Where EASA AD 2024-0228 requires compliance in terms of flight hours, this AD requires using hours time-in-service.

(3) Where the material referenced in EASA AD 2024-0228 specifies discarding parts, or scrapping parts, this AD requires removing those parts from service.

(4) This AD does not adopt the “Remarks” section of EASA AD 2024-0228.

(i) No Reporting Requirement

Although the service material referenced in EASA AD 2024-0228 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Steven Warwick, Aviation Safety Engineer, FAA, 1600 Stewart Avenue, Suite 410, Westbury, NY 11590; phone: (817) 222-5225; email: steven.r.warwick@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0163, dated July 30, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on January 22, 2026.
Steven W. Thompson,
Acting Deputy Director, Compliance & Airworthiness Division, Aircraft Certification Service.

[FR Doc. 2026-01463 Filed 1-23-26; 8:45 am]

BILLING CODE 4910-13-P